DEPARTMENT OF AGRICULTURE

Animal and Plant Health Inspection Service

[Docket No. 01-085-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of restrictions related to the importation of pork from Mexico.

DATES: We invite you to comment on this docket. We will consider all comments that we receive by December 10, 2001.

ADDRESSES: Please send four copies of your comment (an original and three copies) to: Docket No. 01-085-1, Regulatory Analysis and Development, PPD, APHIS, Suite 3C03 4700 River Road Unit 118, Riverdale, MD 20737-1238. Please state that your comment refers to Docket No. 01-085-1.

You may read any comments that we receive on this docket in our reading room. The reading room is located in room 1141 of the USDA South Building, 14th Street and Independence Avenue SW., Washington, DC. Normal reading room hours are 8 a.m. to 4:30 pm., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on restrictions related to the importation of pork from Yucatan and Sonora, Mexico, contact Dr. Michael David, Assistant Director, Sanitary International Standards Team, National Center for Import and Export, VS, APHIS, 4700 River Road Unit 33, Riverdale, MD 20737-7477, (301) 734-8093. For copies of more detailed information on the information collection, contact Mrs. Celeste Sickles, APHIS' Information Collection Coordinator, at (301) 734-7477.

SUPPLEMENTARY INFORMATION: Title: Importation of Pork and Pork Products From Yucatan and Sonora, Mexico.

OMB Number: 0579-0138.

Type of Request: Extension of approval of an information collection.

Abstract: The Animal and Plant Health Inspection Service (APHIS) of the U.S. Department of Agriculture is responsible for administering regulations to prevent the importation of animal diseases, such as hog cholera (also known as classical swine fever), into the United States. The regulations in 9 CFR part 94 currently provide for the importation of pork and pork products into the United States from Yucatan and Sonora, Mexico, under certain conditions. These conditions ensure that the pork or pork products pose a negligible risk of introducing hog cholera into the United States. The regulations require the use of two information collection activities, the completion of a foreign meat inspection certificate and the placing of serially numbered seals on shipping containers. These information collection activities are necessary to ensure that the pork and pork products are derived from swine slaughtered at federally inspected slaughter plants and meet other conditions of the regulations, and that the shipments have not been tampered with en route to the United States.

We are asking the Office of Management and Budget (OMB) to approve our use of these information collection activities for an additional 3 years.

The purpose of this notice is to solicit comments from the public (as well as affected agencies) concerning our information collection. These comments will help us:

(1) Evaluate whether the proposed collection of information is necessary for the proper performance of the Agency functions, including whether the information will have practical utility;

(2) Evaluate the accuracy of our estimate of the burden of the proposed collection of information, including the validity of the methodology and assumptions used;

(3) Enhance the quality, utility, and clarity of the information to be collected; and

(4) Minimize the burden of the collection of information on those who are to respond, through use as appropriate, of automated, electronic, mechanical, and other collection technologies; e.g., permitting electronic submission of responses.

Estimate of burden: The public reporting burden of this collection of information is estimated to average 1.0 hour per response.

Respondents: Federal animal health authorities in Mexico, and personnel in Yucatan and Sonora, Mexico, who operate slaughtering and processing plants and who engage in the export of pork to the United States.

Estimated annual number of respondents: 10.

Estimated annual number of responses per respondent: 4.

Estimated annual number of responses: 40.

Estimated total annual burden on respondents: 40 hours. (Due to averaging, the total annual burden hours may not equal the product of the annual number of responses multiplied by the reporting burden per response.)

All responses to this notice will be summarized and included in the request for OMB approval. All comments will also become a matter of public record.

Done in Washington, DC, this 3rd day of October 2001.
W. Ron DeHaven,
Acting Administrator, Animal and Plant Health Inspection Service.

[FR Doc. 01-25372 Filed 10-9-01; 8:45 am]

BILLING CODE 3410-34-U